DEPARTMENT OF THE INTERIOR

Bureau of Land Management

[LLORN00100.L63340000.PH0000.17XL1116AF.LXSSH1020000.HAG 17-0116]

Public Meeting for the Northwest Oregon Resource Advisory Council

AGENCY: Bureau of Land Management, Interior.

ACTION: Notice of public meeting.

SUMMARY: In accordance with the Federal Land Policy and Management Act of 1976 and the Federal Advisory Committee Act of 1972, the U.S. Department of the Interior, Bureau of Land Management's (BLM) Northwest Oregon Resource Advisory Council (RAC) will meet as indicated below.

DATES: The Northwest Oregon RAC will hold a public meeting on Wednesday, July 26, 2017, from 9 a.m. to 5 p.m., Pacific Daylight Time.

ADDRESSES: The Northwest Oregon RAC will meet at the BLM Springfield Interagency Office, 3106 Pierce Parkway, Springfield, OR 97477.

FOR FURTHER INFORMATION CONTACT: Jennifer Velez, Public Affairs Officer, 1717 Fabry Road SE., Salem, OR 97306; 541-222-9241; jvelez@blm.gov. Persons who use a telecommunications device for the deaf (TDD) may call the Federal Relay Service (FRS) at 1(800) 877-8339 to contact the above individuals during normal business hours. The FRS is available 24 hours a day, 7 days a week, to leave a message or question with the above individuals. You will receive a reply during normal business hours.

SUPPLEMENTARY INFORMATION: The 15-member Northwest Oregon RAC was chartered to serve in an advisory capacity concerning the planning and management of the public land resources located within the BLM's Northwest Oregon District. Members represent an array of stakeholder interests in the land and resources from within the local area and statewide. All advisory council meetings are open to the public. Persons wishing to make comments during the public comment period should register in person with the BLM, at the meeting location, preceding that meeting day's comment period. At the July 26 meeting, members will consider and make recommendations on the reallocation of Secure Rural Schools Title II funds. Other topics will include general updates, a review of subcommittee and future field trip opportunities, and likely a presentation by the Association of Oregon Counties pertaining to the Oregon and California Railroad Revested Lands (O&C) Act and access related issues. Members of the public will have the opportunity to make comments to the RAC during a public comment period at 11:45 a.m.

Written comments may be sent to the Northwest Oregon District office, 1717 Fabry Road SE., Salem, OR 97306. Before including your address, phone number, email address, or other personal identifying information in your comments, please be aware that your entire comment—including your personal identifying information—may be made publicly available at any time. While you can ask us in your comment to withhold your personal identifying information from public review, we cannot guarantee that we will be able to do so.

Authority: 43 CFR 1784.4-2

Jose L. Linares,
Northwest Oregon District Manager.

[FR Doc. 2017-14342 Filed 7-6-17; 8:45 am]

BILLING CODE 4310-33-P